DEPARTMENT OF ENERGY

Federal Energy Regulatory Commission

[Docket No. PF05-5-000]

Gulf LNG Energy LLC; Notice of Environmental Review and Scoping for the Proposed Lng Clean Energy Project and Request for Comments on Environmental Issues

March 3, 2005.

The staff of the Federal Energy Regulatory Commission (FERC or Commission) will prepare an environmental impact statement (EIS) that will discuss the environmental impacts of the LNG Clean Energy Project involving construction and operation of facilities by Gulf LNG Energy LLC (Gulf LNG) in Port of Pascagoula, on Mississippi lands in Bayou Casotte that are owned or controlled by the Jackson County Port Authority. The proposed facilities would consist of a liquefied natural gas (LNG) import terminal and one interconnecting pipeline. The Commission will use this EIS in its decision-making process to determine whether or not the project is in the public convenience and necessity.

The LNG Clean Energy Project is currently in the preliminary design stage. At this time no formal application has been filed with the FERC. For this project, the FERC staff is initiating its National Environmental Policy Act (NEPA) review prior to receiving the application. This will allow interested stakeholders to be involved early in project planning and to identify and resolve issues before an application is filed with the FERC. A docket number (PF05-5-000) has been established to place information filed by Gulf LNG and related documents issued by the Commission, into the public record.¹ Once a formal application is filed with the FERC, a new docket number will be established.

¹ To view information in the docket, follow the instructions for using the eLibrary link at the end of this notice.

This notice is being sent to residents within 0.5 mile of the proposed LNG terminal site; landowners along the pipeline route under consideration; federal, state, and local government agencies; elected officials; environmental and public interest groups; Native American tribes; and local libraries and newspapers.

With this notice, we ² are asking these and other Federal, State, and local agencies with jurisdiction and/or special expertise with respect to environmental issues to formally cooperate with us in the preparation of the EIS. These agencies may choose to participate once they have evaluated the proposal relative to their responsibilities. Agencies which would like to request cooperating status should follow the instructions for filing comments described later in this notice. We encourage government representatives to notify their constituents of this planned project and encourage them to comment on their areas of concern.

² “We,” “us,” and “our” refer to the environmental staff of the Office of Energy Projects.

Some affected landowners may be contacted by a project representative about the acquisition of an easement to construct, operate, and maintain the proposed pipeline. If so, the company should seek to negotiate a mutually acceptable agreement. In the event that the project is certificated by the Commission, that approval conveys the right of eminent domain for securing easements for the pipeline. Therefore, if easement negotiations fail to produce an agreement, the company could initiate condemnation proceedings in accordance with state law.

Summary of the Proposed Project

The facility location would be in Bayou Casotte (East) Harbor, Port of Pascagoula, Jackson County, Mississippi, approximately 14 nautical miles from the sea buoy in the Gulf of Mexico and 10 nautical miles from the barrier islands that separate the Gulf of Mexico from the Mississippi Sound. The LNG site would be accessible from the Bayou Casotte Ship Channel which is 42 feet deep and 350 feet wide. The facilities would consist of an LNG import terminal that would unload LNG from ships and transfer it to two 160,000 cubic meter containment LNG storage tanks on shore. The facility would have the capacity to process an average of one billion cubic feet of LNG per day. In addition, up to about five miles of 36-inch-diameter pipeline would be constructed from the LNG terminal to transport the natural gas to Destin Pipeline Company. The project would consist of the following facilities:

• An LNG terminal consisting of a berth and unloading dock and jetty to accommodate one LNG carrier. The berth and dock would be designed to service LNG carriers ranging in capacity from 87,000 cubic meters (m³) to 138,000 m³. The anticipated level of traffic at full terminal capacity would be 115 ships per year.

• Two 160,000 cubic meter full containment LNG storage tanks on shore; and

• About five miles of 36-inch-diamenter send-out pipeline that would connect with Destin Pipeline near Pascagoula, Mississippi.

A map depicting the proposed terminal site and the proposed pipeline route is provided in appendix 1.3 4

³ The appendices referenced in this notice are not being printed in the Federal Register. Copies are available on the Commission's Internet Web site (http://www.ferc.gov) at the “eLibrary” link or from the Commission's Public Reference and Files Maintenance Branch at (202) 502-8371. For instructions on connecting to eLibrary refer to the last page of this notice.

⁴ Requests for detailed maps of the facilities may be made to the company directly. Write, call, or e-mail: Neil Carter, Project Director, Gulf LNG Energy, LLC, 600 Travis, Suite 6800, Houston, Texas 77002; telephone No. 1-866-Gulf-LNG) (e-mail NOI@gulflngenergy.com); second contact: Erik Swenson, King & Spalding, 191 Peachtree Street, Atlanta, GA 30303; telephone No. (404) 572-3540, (ESwenson@KSLAW.com). Be as specific as you can about the location(s) of your area(s) of interest.

Land Requirements

The proposed LNG terminal would be located within approximately 40 acres of land within a 259-acre property under control of the Port of Pascagoula at the entrance to Bayou Casotte and accessible via the Pascagoula Ship Channel. The project would require dredging of a turning basin and berth to achieve the required size and depth to accommodate the LNG tanker ships. The terminal site contains about eight acres of wetlands, but the current conceptual facility layout would avoid placement of equipment and facilities within the wetland area, except for the pipeline.

The send-out pipeline would parallel the outer perimeter of the U.S. Army Corps of Engineers dredged material disposal area to its tie-in with Destin Pipeline. A right-of-way width was not specified in Gulf LNG's proposal.

The EIS Process

NEPA requires the Commission to take into account the environmental impacts that could result from an action whenever it considers the issuance of a Certificate of Public Convenience and Necessity, or an import authorization under section 3 of the Natural Gas Act. NEPA also requires us to discover and address issues and concerns the public may have about proposals. This process is referred to as “scoping.” The main goal of the scoping process is to focus the analysis in the EIS on the important environmental issues and reasonable alternatives. By this notice, we are requesting agency and public comments on the scope of the issues to be analyzed and presented in the EIS. All scoping comments received will be considered during the preparation of the EIS. To ensure your comments are considered, please carefully follow the instructions in the public participation section of this notice.

The EIS will discuss impacts that could occur as a result of the construction and operation of the proposed project under these general headings:

• Geology and soils

• Water resources, fisheries, and wetlands

• Vegetation and wildlife

• Endangered and threatened species

• Land use

• Cultural resources

• Air quality and noise

• Public safety

Our independent analysis of the issues will be included in a draft EIS. The draft EIS will be mailed to federal, state, and local government agencies; elected officials; environmental and public interest groups; Native American tribes; affected landowners; other interested parties; local libraries and newspapers; and the Commission's official service list for this proceeding. A 45-day comment period will be allotted for review of the draft EIS. We will consider all comments on the draft EIS and revise the document, as necessary, before issuing a final EIS. In addition, we will consider all comments on the final EIS before we make our recommendations to the Commission.

Currently Identified Environmental Issues

We have identified several issues that we think deserve attention based on a preliminary review of the planned facilities and the environmental resources present in the project area. This preliminary list of issues may be changed based information obtained during the public participation period and on our continuing analysis:

• Another LNG project may be proposed adjacent to this project.

• Water Resources

—Assessment of construction effects on water quality.

—Review of wetland areas impacted on the terminal site.

—Fish, Wildlife, and Vegetation

—Effects on wildlife and fisheries including commercial and recreational fisheries.

—Potential impacts of water intake/discharge systems and their potential impact on marine species.

• Endangered and Threatened Species

—Effects on federally-listed species

—Effects on essential fish habitat.

• Reliability and Safety

—Safety and security of the terminal and pipeline.

—LNG shipping.

Our evaluation will also include possible alternatives to the proposed project or portions of the project, and we will make recommendations on how to lessen or avoid impacts on the various resource areas of concern.

Public Participation

You can make a difference by providing us with your specific comments or concerns about the project. By becoming a commentor, your concerns will be addressed in the EIS and considered by the Commission. You should focus on the potential environmental effects of the proposal, alternatives to the proposal (including alternative locations and routes), and measures to avoid or lessen environmental impact. Gulf LNG has established a preliminary pipeline route for the project; however, if minor reroutes or variations are required to avoid or minimize impacts to certain features on your property, this is your opportunity to assist us and Gulf LNG in identifying your specific areas of concern. The more specific your comments, the more useful they will be. Please carefully follow these instructions to ensure that your comments are received and properly recorded:

• Send an original and two copies of your letter to: Magalie R. Salas, Secretary, Federal Energy Regulatory Commission, 888 First St., NE., Room 1A, Washington, DC 20426;

• Label one copy of your comments for the attention of Gas Branch 2; and

• Reference Docket No. PF05-5-000 on the original and both copies.

Please note that we are continuing to experience delays in mail deliveries from the U.S. Postal Service. As a result, we will include all comments that we receive within a reasonable time frame in our environmental analysis of this project. However, the Commission encourages electronic filing of any comments or interventions or protests to this proceeding. See 18 CFR 385.2001(a)(1)(iii) and the instructions on the Commission's Web site at http://www.ferc.gov under the “eFiling” link and the link to the User's Guide. Before you can file comments you will need to create a free account which can be created by clicking on “Login to File” and then “New User Account.”

If you do not want to send comments at this time but still want to remain on our mailing list, please return the Mailing List Retention Form included in Appendix 2.

In addition, the FERC staff will conduct a scoping meeting of the project in the future. A notice of the scoping meeting will be issued by FERC at a later date.

Availability of Additional Information

Additional information about the project is available from the Commission's Office of External Affairs, at 1-866-208 FERC (3372) or on the FERC Internet Web site (http://www.ferc.gov). Using the “eLibrary” link, select “General Search” from the eLibrary menu, enter the selected date range and “Docket Number” (i.e., PF05-5-000), and follow the instructions. Searches may also be done using the phrase “Gulf LNG” in the “Text Search” field. For assistance with access to eLibrary, the helpline can be reached at 1-866-208-3676, TTY (202) 502-8659, or at FERCOnlineSupport@ferc.gov. The eLibrary link on the FERC Internet website also provides access to the texts of formal documents issued by the Commission, such as orders, notices, and rulemakings.

In addition, the Commission now offers a free service called eSubscription that allows you to keep track of all formal issuances and submittals in specific dockets. This can reduce the amount of time you spend researching proceedings by automatically providing you with notification of these filings, document summaries, and direct links to the documents. To register for this service, go to http://www.ferc.gov/esubscribenow.htm.

Further, public meetings or site visits will be posted on the Commission's calendar located at http://www.ferc.gov/EventCalendar/EventsList.aspx along with other related information.

Finally, Gulf LNG has established an Internet Web site for its project at http://www.lngcleanenergy.com/overview/. The Web site includes a description of the project, maps and photographs of the proposed site, information on LNG, and links to related documents.

Magalie R. Salas,
Secretary.

[FR Doc. E5-1001 Filed 3-9-05; 8:45 am]

BILLING CODE 6717-01-P